DEPARTMENT OF VETERANS AFFAIRS

[OMB Control No. 2900-0466]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before September 18, 2000.

FOR FURTHER INFORMATION OR A COPY OF THE SUBMISSION CONTACT: Denise McLamb, Information Management Service (045A4), Department of Veterans Affairs, 810 Vermont Avenue, NW, Washington, DC 20420, (202) 273-8030 or FAX (202) 273-5981. Please refer to “OMB Control No. 2900-0466.”

SUPPLEMENTARY INFORMATION: Title: Certificate of Balance on Deposit and Authorization to Disclose Financial Records, VA Form 27-4718a.

OMB Control Number: 2900-0466.

Type of Review: Reinstatement, with change, of a previously approved collection for which approval has expired.

Abstract: Fiduciaries are required to obtain certifications that the balances remaining on deposit in financial institutions as shown on accountings are correct. The form is completed by a certifying official at a financial institution who must also affix the financial seal or stamp. An Estate analyst reviews the information provided on this form when auditing accounting to determine the veracity of the information supplied by fiduciaries. The purpose is to prevent fiduciaries from supplying false certification, embezzling funds, and possibly prevent and/or identify fraud, waste, and abuse of government funds paid to fiduciaries on behalf of VA beneficiaries.

An agency may not conduct or sponsor, and a person is not required to respond to a collection of information unless it displays a currently valid OMB control number. The Federal Register Notice with a 60-day comment period soliciting comments on this collection of information was published May 4, 2000 at page 25978.

Affected Public: Individuals or households, Business or other for-profit, Not-for-profit institutions, and State, Local or Tribal Government.

Estimated Annual Burden: 1,185 hours.

Estimated Average Burden Per Respondent: 3 minutes.

Frequency of Response: Annually.

Estimated Number of Respondents: 23,700.

Send comments and recommendations concerning any aspect of the information collection to VA's OMB Desk Officer, Allison Eydt, OMB Human Resources and Housing Branch, New Executive Office Building, Room 10235, Washington, DC 20503 (202) 395-4650. Please refer to “OMB Control No. 2900-0466” in any correspondence.

Dated: July 19, 2000.
By direction of the Secretary.
Donald L. Neilson,
Director Information Management Service.

[FR Doc. 00-20862 Filed 8-16-00; 8:45 am]

BILLING CODE 8320-01-P